FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 002213NF.

Name: Staudt International Services Corp.

Address: 1000 E. 14th Street, Los Angeles, CA 90021.

Date Revoked: September 16, 2010.

Reason: Failed to maintain valid bonds.

License Number: 4126F.

Name: M.K.C. Customs Brokers International Inc.

Address: 9320 S. La Cienega Blvd., Inglewood, CA 90301.

Date Revoked: September 13, 2010.

Reason: Failed to maintain a valid bond.

License Number: 15656N.

Name: Raya Navigation, Inc.

Address: 6701 Moravia Park Drive, Unit B, Baltimore, MD 21237.

Date Revoked: September 17, 2010.

Reason: Failed to maintain a valid bond.

License Number: 18309N.

Name: Gunter Shipping, Inc.

Address: 700 Nostrand Avenue, Brooklyn, NY 11216.

Date Revoked: September 17, 2010.

Reason: Failed to maintain a valid bond.

License Number: 018717N.

Name: IFE Global Logistics Inc.

Address: 100 North Hill Drive, #16, Brisbane, CA 94005.

Date Revoked: September 18, 2010.

Reason: Failed to maintain a valid bond.

License Number: 019679F.

Name: Incline International Relocation, Inc.

Address: 3541 Washington Pike, Bridgeville, PA 15017.

Date Revoked: September 19, 2010.

Reason: Failed to maintain a valid bond.

License Number: 019763N.

Name: Cargo Distribution International, Inc.

Address: 860 Foster Avenue, Bensenville, IL 60106.

Date Revoked: September 30, 2010.

Reason: Failed to maintain a valid bond.

License Number: 020281F.

Name: Freightsolutions LLC dba Freight Solutions.

Address: 1775 NW 70th Avenue, Suite 10, Miami, FL 33126.

Date Revoked: September 5, 2010.

Reason: Failed to maintain a valid bond.

License Number: 020931NF.

Name: Good One Logistics Inc.

Address: 1001 Nicholas Blvd., #A, Elk Grove Village, IL 60007.

Date Revoked: September 10, 2010.

Reason: Failed to maintain valid bonds.

License Number: 021040N.

Name: Green Line Global International Corporation.

Address: 8500 Rex Road, Pico Rivera, CA 90660.

Date Revoked: September 12, 2010.

Reason: Failed to maintain a valid bond.

License Number: 021503NF.

Name: Global Cargo Group, Inc. dba GCI Logistics.

Address: 9300 NW 25th Street, Suite 104, Miami, FL 33172.

Date Revoked: August 30, 2010.

Reason: Failed to maintain valid bonds.

License Number: 021664N.

Name: Seaport Int'l Freight Consolidators, Inc. dba Seaport Int'l Freight Consolidators.

Address: 2003 SW 100th Terrace, Miramar, FL 33025.

Date Revoked: September 4, 2010.

Reason: Failed to maintain a valid bond.

License Number: 021731NF.

Name: RCF International, Inc.

Address: 3625 NW 82nd Avenue, Suite 103, Miami, FL 33166.

Date Revoked: September 17, 2010.

Reason: Failed to maintain valid bonds.

License Number: 021888F.

Name: Harbor Freight Logistics Ltd. L.L.C.

Address: 346 E. Park Manor Drive, Lake Charles, LA 70611.

Date Revoked: September 9, 2010.

Reason: Failed to maintain a valid bond.

License Number: 022143F.

Name: DTI Group Inc.

Address: 10913 NW 30th Street, Suite 107, Miami, FL 33172.

Date Revoked: September 16, 2010.

Reason: Failed to maintain a valid bond.

License Number: 022267N.

Name: Integrated Global Logistics, LLC.

Address: 10921 SW 120th Street, Miami, FL 33176.

Date Revoked: September 27, 2010.

Reason: Surrendered license voluntarily.

Sandra L. Kusumoto,
Director, Bureau of Certification and Licensing.

[FR Doc. 2010-26436 Filed 10-20-10; 8:45 am]

BILLING CODE 6730-01-P